DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2023, through September 30, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Krista Wilson, Lexington, Kentucky, Court of Federal Claims No: 23-1513V

2. Cynthia Lyles, Jacksonville, Florida, Court of Federal Claims No: 23-1514V

3. Thomas Pollock, Dallas, Texas, Court of Federal Claims No: 23-1516V

4. Gary Kastler, Orwell, New York, Court of Federal Claims No: 23-1517V

5. Keith Misner, King of Prussia, Pennsylvania, Court of Federal Claims No: 23-1520V

6. Brenda Korfin, Waco, Texas, Court of Federal Claims No: 23-1521V

7. Kristin Fauntleroy, Boston, Massachusetts, Court of Federal Claims No: 23-1522V

8. Rebecca Richardson, Bothell, Washington, Court of Federal Claims No: 23-1523V

9. Melissa Swanson, Pittsburgh, Pennsylvania, Court of Federal Claims No: 23-1524V

10. Robert Poploski, Boston, Massachusetts, Court of Federal Claims No: 23-1525V

11. Ruth Parulis, Waterford, Michigan, Court of Federal Claims No: 23-1526V

12. Linda D'Ambrosio, Boston, Massachusetts, Court of Federal Claims No: 23-1527V

13. Gavin Sherman, Los Angeles, California, Court of Federal Claims No: 23-1529V

14. Krista Davidson, North Liberty, Iowa, Court of Federal Claims No: 23-1530V

15. Bonnie Albano on behalf of L. A., Morristown, New Jersey, Court of Federal Claims No: 23-1531V

16. Clifford Woodland, Black River Falls, Wisconsin, Court of Federal Claims No: 23-1532V

17. Victoria Pipp on behalf of T. P., Alpine, Texas, Court of Federal Claims No: 23-1533V

18. Robert M. Anderson, Jr., Boscobel, Wisconsin, Court of Federal Claims No: 23-1534V

19. Diane Barry, Boston, Massachusetts, Court of Federal Claims No: 23-1537V

20. Rosa Asous-Romney, Dover, Delaware, Court of Federal Claims No: 23-1540V

21. Elizabeth Starkey, Naperville, Illinois, Court of Federal Claims No: 23-1541V

22. Brooklyn Grace Norwood, Salina, Kansas, Court of Federal Claims No: 23-1542V

23. Hugh Gregory, Memphis, Tennessee, Court of Federal Claims No: 23-1543V

24. Norma Alvisuriz, Boston, Massachusetts, Court of Federal Claims No: 23-1545V

25. Shannon Roberts, New Orleans, Louisiana, Court of Federal Claims No: 23-1546V

26. Deborah Dapkus, Dresher, Pennsylvania, Court of Federal Claims No: 23-1547V

27. Cynthia Brandt on behalf of David M. Taylor, Deceased, Westlake, Ohio, Court of Federal Claims No: 23-1549V

28. Nicole Betts, Brewer, Maine, Court of Federal Claims No: 23-1550V

29. Sara Kinsey, Burlingame, California, Court of Federal Claims No: 23-1553V

30. Charles Esparza, Boston, Massachusetts, Court of Federal Claims No: 23-1555V

31. Veronika Sweitzer on behalf of Z. L. S., Richmond, Virginia, Court of Federal Claims No: 23-1556V

32. Allen Washuleski, Houghton, Michigan, Court of Federal Claims No: 23-1557V

33. Emma Krausert, Scottsdale, Arizona, Court of Federal Claims No: 23-1559V

34. Diane Hiatt, Honolulu, Hawaii, Court of Federal Claims No: 23-1560V

35. Jennifer Rich, Dallas, Texas, Court of Federal Claims No: 23-1561V

36. Fadia Louala, Phoenix, Arizona, Court of Federal Claims No: 23-1562V

37. Jonathan Schneider, Ypsilanti, Michigan, Court of Federal Claims No: 23-1564V

38. Daniel Shevitz, Los Alamos, New Mexico, Court of Federal Claims No: 23-1565V

39. Luis Tan, Phoenix, Arizona, Court of Federal Claims No: 23-1566V

40. Brett Merrill, Provo, Utah, Court of Federal Claims No: 23-1567V

41. Kent Blad, Provo, Utah, Court of Federal Claims No: 23-1570V

42. Wendy Hightower, Englewood, California, Court of Federal Claims No: 23-1571V

43. Maria Villanueva, Antioch, California, Court of Federal Claims No: 23-1572V

44. Michael Greim, Downingtown, Pennsylvania, Court of Federal Claims No: 23-1573V

45. Cynthia Rains, Fort Worth, Texas, Court of Federal Claims No: 23-1574V

46. Luis Guzman, Tucson, Arizona, Court of Federal Claims No: 23-1575V

47. Kashaf Zaidi, Hoffman Estates, Illinois, Court of Federal Claims No: 23-1576V

48. Lee Eulgen, Western Springs, Illinois, Court of Federal Claims No: 23-1577V

49. Patricia Eulgen, Western Springs, Illinois, Court of Federal Claims No: 23-1578V

50. Scott Sullivan, Chicago, Illinois, Court of Federal Claims No: 23-1579V

51. Artemio Guzman, Gurnee, Illinois, Court of Federal Claims No: 23-1581V

52. Vineet Gupta and Shalini Priti on behalf of P. G., San Diego, California, Court of Federal Claims No: 23-1582V

53. Oscar Dickey, Jr., Boston, Massachusetts, Court of Federal Claims No: 23-1583V

54. Jennifer Sigan, Memphis, Tennessee, Court of Federal Claims No: 23-1584V

55. Susan Brown, Madison, Alabama, Court of Federal Claims No: 23-1586V

56. Andrea Dinardo, Atlantic City, New Jersey, Court of Federal Claims No: 23-1587V

57. Griselda Cruz Burgos, Redmond, Oregon, Court of Federal Claims No: 23-1588V

58. Marysol Losada, New York, New York, Court of Federal Claims No: 23-1589V

59. Tracy Eurey, Winston Salem, North Carolina, Court of Federal Claims No: 23-1590V

60. Alicia Ekstrom, Findlay, Ohio, Court of Federal Claims No: 23-1591V

61. Corleen Simmons, Bloomington, Minnesota, Court of Federal Claims No: 23-1592V

62. Kashaf Zaidi, Hoffman Estates, Illinois, Court of Federal Claims No: 23-1593V

63. Artemio Guzman, Gurnee, Illinois, Court of Federal Claims No: 23-1594V

64. Sarah Jasper, Iowa City, Iowa, Court of Federal Claims No: 23-1596V

65. Laura Healy, Thousand Oaks, California, Court of Federal Claims No: 23-1597V

66. Johanna Bravo, Narragansett, Rhode Island, Court of Federal Claims No: 23-1599V

67. Delonda Giles, Burleson, Texas, Court of Federal Claims No: 23-1602V

68. Carol McNulty, Beverly Hills, California, Court of Federal Claims No: 23-1603V

69. Traci Brakefield, Woodridge, Illinois, Court of Federal Claims No: 23-1604V

70. Evelyn Haney, Knoxville, Tennessee, Court of Federal Claims No: 23-1605V

71. Sandra Puckly, Corry, Pennsylvania, Court of Federal Claims No: 23-1607V

72. David Ryley, M.D., Boston, Massachusetts, Court of Federal Claims No: 23-1609V

73. Kathleen Staub, Dresher, Pennsylvania, Court of Federal Claims No: 23-1611V

74. Shireesha Eedunuru on behalf of R. R. K., Sugarland, Texas, Court of Federal Claims No: 23-1613V

75. Anna Hoffman, Summit, Wisconsin, Court of Federal Claims No: 23-1614V

76. Sarah Leah Ganzweig, New York, New York, Court of Federal Claims No: 23-1615V

77. Adi Eminente, Los Angeles, California, Court of Federal Claims No: 23-1616V

78. Nancy Hodges, Fresno, California, Court of Federal Claims No: 23-1617V

79. Debora Strader, Escondido, California, Court of Federal Claims No: 23-1619V

80. Dairinn Finn, Olean, New York, Court of Federal Claims No: 23-1620V

81. Gabrielle Rawnsley, Charleston, New Hampshire, Court of Federal Claims No: 23-1621V

82. James A. Bristol, Jr., McKinney, Texas, Court of Federal Claims No: 23-1622V

83. Jamie Whitehouse, Helena, Montana, Court of Federal Claims No: 23-1623V

84. Christal Hanson, Boston, Massachusetts, Court of Federal Claims No: 23-1624V

85. Karen Bergin, New London, Connecticut, Court of Federal Claims No: 23-1625V

86. Amanda Page, Louisburg, North Carolina, Court of Federal Claims No: 23-1626V

87. Nazeer Lotfi-Fard, Avon, Ohio, Court of Federal Claims No: 23-1627V

88. Travis Rian, Wellesley, Massachusetts, Court of Federal Claims No: 23-1628V

89. Eugene Hieger, Lexington, Kentucky, Court of Federal Claims No: 23-1630V

90. Wendy Wright, Lewiston, Idaho, Court of Federal Claims No: 23-1631V

91. Bruce A. Scott, Fort Recovery, Ohio, Court of Federal Claims No: 23-1632V

92. Kathleen Hicks, Mechanicsville, Virginia, Court of Federal Claims No: 23-1634V

93. Rebecca Fellows, Lebanon, New Hampshire, Court of Federal Claims No: 23-1636V

94. Natalie Gaines, Columbia, Maryland, Court of Federal Claims No: 23-1637V

95. Michael Todaro, Dresher, Pennsylvania, Court of Federal Claims No: 23-1638V

96. Nicole Schaefer, Charleston, South Carolina, Court of Federal Claims No: 23-1641V

97. Annie Murphy, Ann Arbor, Michigan, Court of Federal Claims No: 23-1642V

98. Kristena Rivera on behalf of L. R., Dresher, Pennsylvania, Court of Federal Claims No: 23-1644V

99. Kerri Stone on behalf of E. L., Lexington, South Carolina, Court of Federal Claims No: 23-1645V

100. Toni Rankin, Beverly Hills, California, Court of Federal Claims No: 23-1646V

101. Gregory Whitehouse, Boston, Massachusetts, Court of Federal Claims No: 23-1647V

102. Melvin J. Martin on behalf of Billy J. Martin, Deceased, Greensboro, North Carolina, Court of Federal Claims No: 23-1649V

103. James Brady, Boston, Massachusetts, Court of Federal Claims No: 23-1650V

104. Julio Castillo, South Jordan, Utah, Court of Federal Claims No: 23-1651V

105. Jesus Villahermosa, Gig Harbor, Washington, Court of Federal Claims No: 23-1652V

106. Theresa V. Barrows, Cambridge, Vermont, Court of Federal Claims No: 23-1653V

107. Grisel Escalera, Providence, Rhode Island, Court of Federal Claims No: 23-1654V

108. Margaret Carter, Dresher, Pennsylvania, Court of Federal Claims No: 23-1656V

109. Stacy Brown-Satterwhite, Greensboro, North Carolina, Court of Federal Claims No: 23-1658V

110. Jerilynn Vokurka, Phoenix, Arizona, Court of Federal Claims No: 23-1659V

111. Debra Legleiter, Harrison, Arkansas, Court of Federal Claims No: 23-1660V

112. Brenda Smull, Chandler, Arizona, Court of Federal Claims No: 23-1662V

113. Lois Blankenship on behalf of Carter Blankenship, Deceased, Crown Point, Indiana, Court of Federal Claims No: 23-1663V

114. Curtis Lovejoy, Altamont, Illinois, Court of Federal Claims No: 23-1664V

115. Evelyn Fisher, Bensalem, Pennsylvania, Court of Federal Claims No: 23-1665V

116. Mary Palmisano, New Brunswick, New Jersey, Court of Federal Claims No: 23-1666V

117. Alina Dennis, Chula Vista, California, Court of Federal Claims No: 23-1670V

118. Julie Brown, Libertyville, Illinois, Court of Federal Claims No: 23-1671V

119. Raymond Motyka, East Orange, New Jersey, Court of Federal Claims No: 23-1672V

120. Carl Bildner, Columbia, Missouri, Court of Federal Claims No: 23-1673V

121. Deborah Bagdazian, San Diego, California, Court of Federal Claims No: 23-1674V

122. Misty Fuller, Glenwood Springs, Colorado, Court of Federal Claims No: 23-1677V

123. Jeanne Carpenter, Glen Burnie, Maryland, Court of Federal Claims No: 23-1678V

124. John J. Reding, Jr., Seattle, Washington, Court of Federal Claims No: 23-1679V

125. Gina Goldmann, Islandia, New York, Court of Federal Claims No: 23-1681V

126. Bruce W, Blais, Jr., Providence, Rhode Island, Court of Federal Claims No: 23-1682V

127. Von-Ikenna Marie Tresna-Taylor, Fulton, Missouri, Court of Federal Claims No: 23-1687V

128. Kenneth Berard, Vancouver, Washington, Court of Federal Claims No: 23-1690V

129. Bradley McKinnon, Little Rock, Arkansas, Court of Federal Claims No: 23-1691V

130. Melinda Boards, Bowling Green, Kentucky, Court of Federal Claims No: 23-1692V

131. Dora D. Loiacono, West Caldwell, New Jersey, Court of Federal Claims No: 23-1693V

[FR Doc. 2023-25043 Filed 11-13-23; 8:45 am]

BILLING CODE 4165-15-P